DEPARTMENT OF ENERGY

[OE Docket No. EA-353]

Application To Export Electric Energy; Application To Transfer Export Authority; Boralex Fort Fairfield LP and Boralex Ashland LP

AGENCY: Office of Electricity Delivery and Energy Reliability, DOE.

ACTION: Notice of application.

SUMMARY: Boralex Fort Fairfield LP (Boralex FF), formerly known as Aroostook Valley Electric Company (AVEC), and its affiliate, Boralex Ashland LP (Boralex Ashland), jointly applied to voluntarily transfer the authority to export electric energy from the United States to Canada issued to AVEC, to Boralex Ashland pursuant to section 202(e) of the Federal Power Act.

DATES: Comments, protests, or requests to intervene must be submitted on or before September 8, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On July 27, 2001, DOE issued Order No. EA-239 authorizing AVEC to transmit electric energy from the United States to Canada. In that Order AVEC was authorized to transmit the electrical output of its wood-burning generation facility, located in Fort Fairfield, Maine, to Canada using the international transmission facilities of Maine Public Service Company.

On February 22, 2002, DOE was informed that AVEC had changed its name to Boralex Fort Fairfield Inc. (BFF), and in 2006 BFF was converted from a Maine corporation to a Delaware limited partnership, and become Boralex FF.

On May 12, 2009, Boralex FF and Boralex Ashland jointly applied to DOE to voluntarily transfer the electricity export authority issued to AVEC in Order No. EA-239 to Boralex Ashland and to increase the authorized rate of export from 31 megawatts (MW) to 34 MW.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on this proceeding should be clearly marked with Docket No. EA-353. Additional copies are to be filed directly with Sylvain Aird, Vice President, Legal Affairs and Corporate Secretary, Boralex Inc., 770 Sherbrooke Street West, Suite 160, Montreal, Quebec H3A 1G1, Canada and Andrew B. Young, William M. Keyser, K&L Gates LLP, 1601 K Street, NW., Washington, DC 20006-1600. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on August 3, 2009.
Anthony J. Como,
Director, Permitting and Siting, Office of Electricity Delivery and Energy Reliability.

[FR Doc. E9-18945 Filed 8-6-09; 8:45 am]

BILLING CODE 6450-01-P